DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Study of Nutrition and Activity in Child Care Settings II (SNACS-II)

OMB Control Number: 0584-NEW.

Summary of Collection: The Child and Adult Care Food Program (CACFP), administered by the U.S. Department of Agriculture (USDA) Food and Nutrition Service (FNS), provides reimbursement for nutritious meals and snacks served to eligible children enrolled in participating child care programs. Reimbursable meals and snacks must meet CACFP's meal pattern requirements. Section 28(a) of the Richard B. Russell National School Lunch Act (NSLA) authorizes the USDA Secretary to conduct performance assessments of CACFP, including the nutritional quality of the meals and the cost of producing them. Under Section 28(c), entities participating in CACFP shall cooperate in the conduct of evaluations and studies.

SNACS-II is the second comprehensive, nationally representative assessment of CACFP providers and the infants, children, and teens they serve. It will update the picture of the CACFP after updated meal pattern requirements went into effect in October 2017. Under the updated requirements, CACFP meals and snacks must include a wider variety of fruits and vegetables, more whole grains, and less added sugar and saturated fat. The updated requirements are also designed to encourage breastfeeding.

Need and Use of the Information: SNACS-II will collect data in program year 2022-2023 to address eight broad objectives: (1) CACFP provider characteristics, (2) nutritional quality of foods offered, (3) children's dietary intakes, (4) children's physical activity and household characteristics, (5) CACFP plate waste, (6) teens' physical activity and household characteristics, (7) infants' dietary intakes and physical activity while in care, and (8) the cost to produce CACFP meals and snacks. SNACS-II will largely replicate the methods used in the first Study of Nutrition and Activity in Child Care Settings because comparing key outcomes at the two points in time is an important focus of the study. SNACS-II will collect data from nationally representative samples of CACFP providers, including family day care homes, child care centers, Head Start centers, at-risk afterschool centers, and outside-school-hours care centers; infants, children, and teens; and parents/guardians. To address the array of research questions under the eight study objectives, the data collection activities to be undertaken subject to this notice include the following:

• The Provider Survey and Environmental Observation Form will be used to describe the characteristics of CACFP providers.

• The Menu Survey will be used to assess the nutritional quality of foods offered.

• The Meal Observation Booklet and the Automated Self-Administered 24-Hour dietary recall interview (ASA24) will be used to describe children's dietary intakes.

• The Parent Interview and Height and Weight Form collect data on children's physical activity and household characteristics.

• The Food and Physical Activity Experiences Survey and Teen Parent Interview collect data on teens' physical activity and household characteristics.

• The Infant Menu Survey will be used to assess the nutrition quality of foods offered to infants. The Infant Intake Form collect information on infants' dietary intakes while in care.

• The Pre-Visit Cost Interview, Pre-Visit Cost Form, Sponsor/Center Cost Interview, Center Director Cost Interview, Center Food Service Cost Interview, and Self-Administered Cost Questionnaire collect information on the cost to produce CACFP meals and snacks.

Description of Respondents: State Agencies, Private Sector (Business-for-profit and not-for profit), Individuals and Households.

Number of Respondents: 19,373.

Frequency of Responses: Reporting: Once.

Total Burden Hours: 26,538.

Ruth Brown,
Departmental Information Collection Clearance Officer.

[FR Doc. 2021-15886 Filed 7-26-21; 8:45 am]

BILLING CODE 3410-30-P